DEPARTMENT OF JUSTICE

Membership of the Senior Executive Service Standing Performance Review Boards

AGENCY: Department of Justice.

ACTION: Notice of Department of Justice's standing members of the Senior Executive Service Performance Review Boards.

SUMMARY: The Department of Justice. announces the membership of its 2017 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Mary A. Lamary, Director, Human Resources, Justice Management Division, Department of Justice, Washington, DC 20530; (202) 514-4350.

Lee J. Lofthus,
Assistant Attorney General for Administration.

2017 Federal Register
Name | Position title
Office of the Attorney General—OAG
HUNT, JODY (DETAIL) | CHIEF OF STAFF AND COUNSELOR.
MORRISSEY, BRIAN | COUNSELOR TO THE ATTORNEY GENERAL.
CUTRONA, DANIELLE | SENIOR COUNSELOR.
Office of the Deputy Attorney General—ODAG
HUR, ROBERT | PRINCIPAL ASSOCIATE DEPUTY ATTORNEY GENERAL.
SWANSON, JAMES | ASSOCIATE DEPUTY ATTORNEY GENERAL.
SCHOOLS, SCOTT | ASSOCIATE DEPUTY ATTORNEY GENERAL.
GUAHAR, TASHINA | ASSOCIATE DEPUTY ATTORNEY GENERAL.
CROWELL, JAMES A | CHIEF OF STAFF/ASSOCIATE DEPUTY ATTORNEY GENERAL.
CONNOLLY, ROBERT | DIRECTOR, OFFICE OF SMALL AND DISADVANTAGED BUSINESS UTILIZATION.
GOLDSMITH, ANDREW | NATIONAL CRIMINAL DISCOVERY COORDINATOR.
MICHALIC, MARK | EMERGENCY PREPAREDNESS AND CRISIS RESPONSE COORDINATOR.
GEISE, JOHN | CHIEF, PROFESSIONAL MISCONDUCT REVIEW UNIT.
Office of the Associate Attorney General—OASG
PANUCCIO, JESSE | PRINCIPAL DEPUTY ASSOCIATE ATTORNEY GENERAL.
MCARTHUR, ERIC | DEPUTY ASSOCIATE ATTORNEY GENERAL.
COX, STEVE | DEPUTY ASSOCIATE ATTORNEY GENERAL.
MURRAY, BRIAN | DEPUTY ASSOCIATE ATTORNEY GENERAL.
FRANCISCO, NOEL | SENIOR ADVISOR.
Office of the Solicitor General—OSG
WALL, JEFFREY | PRINCIPAL DEPUTY SOLICITOR GEN.
DREEBEN, MICHAEL R | DEPUTY SOLICITOR GENERAL.
KNEEDLER, EDWIN S | DEPUTY SOLICITOR GENERAL.
STEWART, MALCOLM L | DEPUTY SOLICITOR GENERAL.
Office of Privacy and Civil Liberties
WINN, PETER | DIRECTOR, OFFICE OF PRIVACY AND CIVIL LIBERTIES.
Antitrust Division—ATR
FINCH, ANDREW | PRINCIPAL DEPUTY ASSISTANT ATTORNEY GENERAL.
NIGRO, BERNARD | DEPUTY ASSISTANT ATTORNEY GENERAL.
ARMINGTON, ELIZABETH J | CHIEF, ECONOMIC REGULATORY SECTION.
BRINK, PATRICIA A | DIRECTOR OF CIVIL ENFORCEMENT.
COHEN, SCOTT | EXECUTIVE OFFICER.
DRENNAN, RONALD | CHIEF, COMPETITION POLICY SECTION.
FAMILANT, NORMAN | CHIEF, ECONOMIC LITIGATION SECTION.
FOUNTAIN, DOROTHY | SENIOR COUNSEL AND DIRECTOR OF RISK MANAGEMENT.
GREER, TRACY | ATTORNEY ADVISOR.
HOLLAND, CAROLINE | CHIEF COUNSEL FOR COMPETITION POLICY AND INTERGOVERNMENTAL RELATIONS.
LIMARZI, KRISTEN | CHIEF, APPELLATE SECTION.
MUCCHETTI, PETER J | CHIEF, LITIGATION I SECTION.
MAJURE, WILLIAM ROBERT | DIRECTOR OF ECONOMICS.
MARTINO, JEFFREY | CHIEF, NEW YORK FIELD OFFICE.
PETRIZZI, MARIBETH | CHIEF, LITIGATION II SECTION.
PHELAN, LISA M | CHIEF, NATIONAL CRIMINAL ENFORCEMENT SECTION.
POTTER, ROBERT A | CHIEF, LEGAL POLICY SECTION.
PRICE JR., MARVIN N | DIRECTOR OF CRIMINAL ENFORCEMENT.
SCHEELE, SCOTT A | CHIEF, TELECOMMUNICATIONS AND MEDIA ENFORCEMENT SECTION.
STRIMEL, MARY | CHIEF, WASHINGTON CRIMINAL II SECTION.
VONDRAK, FRANK | CHIEF, CHICAGO FIELD OFFICE.
KEMPF, DONALD | DEPUTY ASSISTANT ATTORNEY GENERAL.
WERDEN, GREGORY J | ECONOMIST ADVISOR.
O'NEILL, KATHLEEN S | CHIEF TRANSPORTATION, ENERGY AND AGRICULTURE SECTION.
HOAG, AARON | CHIEF, NETWORKS AND TECHNOLOGY ENFORCEMENT SECTION.
KENDLER, OWEN | CHIEF, LITIGATION III SECTION.
Bureau of Alcohol, Tobacco, Firearms, and Explosives—ATF
BRANDON, THOMAS E | DEPUTY DIRECTOR.
TURK, RONALD B | SPECIAL ASSISTANT TO THE DIRECTOR (Associate Deputy Director).
SMITH, CHARLES B | EXECUTIVE ASSISTANT TO THE DIRECTOR.
GLEYSTEEN, MICHAEL P | ASSISTANT DIRECTOR, FIELD OPERATIONS.
CANINO, CARLOS | DEPUTY ASSISTANT DIRECTOR, FIELD OPERATIONS (PROGRAMS).
CROKE, KENNETH | DEPUTY ASSISTANT DIRECTOR, FIELD OPERATIONS—EAST.
KUMOR, DANIEL | ASSISTANT DIRECTOR, OFFICE OF PROFESSIONAL RESPONSIBILITY AND SECURITY OPERATIONS.
DIXIE, WAYNE | DEPUTY ASSISTANT DIRECTOR, FIELD OPERATIONS—EAST.
LOMBARDO, REGINA | DEPUTY ASSISTANT DIRECTOR, FIELD OPERATIONS—CENTRAL.
MCMULLAN, WILLIAM | DEPUTY ASSISTANT DIRECTOR, FIELD OPERATIONS—WEST.
SWEETOW, SCOTT | DEPUTY DIRECTOR, TEDAC.
RICHARDSON, MARVIN | ASSISTANT DIRECTOR, ENFORCEMENT PROGRAM SERVICES.
CZARNOPYS, GREGORY P | DEPUTY ASSISTANT DIRECTOR, FORENSIC SERVICES.
BEASLEY, ROGER | ASSISTANT DIRECTOR, SCIENCE AND TECHNOLOGY/CIO.
MCDERMOND, JAMES E | ASSISTANT DIRECTOR, OFFICE OF STRATEGIC INTELLIGENCE AND INFORMATION.
REID, DELANO | DEPUTY ASSISTANT DIRECTOR, OFFICE OF PROFESSIONAL RESPONSIBILITY AND SECURITY OPERATIONS.
MICHALIC, VIVIAN B | ASSISTANT DIRECTOR, MANAGEMENT.
FRANDE, FRANCIS | DEPUTY ASSISTANT DIRECTOR, MANAGEMENT AND CHIEF FINANCIAL OFFICER.
MAGEE, JEFFREY | ASSISTANT DIRECTOR, HUMAN RESOURCES AND PROFESSIONAL DEVELOPMENT.
GRAHAM, ANDREW R | DEPUTY ASSISTANT DIRECTOR, INDUSTRY OPERATIONS.
GROSS, CHARLES R | CHIEF COUNSEL.
ROESSNER, JOEL | DEPUTY CHIEF COUNSEL.
EPSTEIN, ERIC | ATTORNEY ADVISOR.
MCDANIEL, MASON | CHIEF TECHNOLOGY OFFICER.
GILBERT, CURTIS | DEPUTY ASSISTANT DIRECTOR, ENFORCEMENT PROGRAM AND SERVICES.
CHITTUM, THOMAS | CHIEF, SPECIAL OPERATIONS DIVISION.
DURASTANTI, JOHN | DEPUTY ASSISTANT DIRECTOR, OFFICE OF STRATEGIC INTELLIGENCE AND INFORMATION.
SHAEFER, CHRISTOPHER | ASSISTANT DIRECTOR, OFFICE OF PUBLIC AND GOVERNMENTAL AFFAIRS.
BENNETT, MEGAN | DEPUTY ASSISTANT DIRECTOR, OFFICE OF PUBLIC AND GOVERNMENTAL AFFAIRS.
MILANOWSKI, JAMES | DEPUTY ASSISTANT DIRECTOR, OFFICE OF PUBLIC AND GOVERNMENTAL AFFAIRS.
BOYKIN, LISA | DEPUTY ASSISTANT DIRECTOR, HUMAN RESOURCES AND PROFESSIONAL DEVELOPMENT (HUMAN RESOURCES).
LOWREY, STUART | DEPUTY ASSISTANT DIRECTOR, HUMAN RESOURCES AND PROFESSIONAL DEVELOPMENT.
VIDOLI, MARINO | ASSISTANT DIRECTOR, HUMAN RESOURCES AND PROFESSIONAL DEVELOPMENT.
GOLD, VICTORIA | DEPUTY ASSISTANT DIRECTOR, IT/DEPUTY CIO.
ROBINSON, DONALD | SPECIAL AGENT IN CHARGE, NATIONAL CENTER FOR EXPLOSIVES TRAINING AND RESEARCH (NCETR).
WALKER, CARL | SPECIAL AGENT IN CHARGE, ATLANTA.
BOARD, DANIEL | SPECIAL AGENT IN CHARGE, BALTIMORE.
LEADINGHAM, MICKEY | SPECIAL AGENT IN CHARGE, BOSTON.
HYMAN, CHRISTOPHER | SPECIAL AGENT IN CHARGE, CHARLOTTE.
VELINOR, TREVOR | SPECIAL AGENT IN CHARGE, COLUMBUS.
TEMPLE, WILLIAM | SPECIAL AGENT IN CHARGE, DALLAS.
LIVINGSTON, DEBRA | SPECIAL AGENT IN CHARGE, DENVER.
SHOEMAKER, STEPHANIE | SPECIAL AGENT IN CHARGE, DETROIT.
MILANOWSKI, FREDERICK | SPECIAL AGENT IN CHARGE, HOUSTON.
LAUDER, GEORGE | SPECIAL AGENT IN CHARGE, KANSAS CITY.
HARDEN, ERIC | SPECIAL AGENT IN CHARGE, LOS ANGELES.
LOWREY, STUART | SPECIAL AGENT IN CHARGE, LOUISVILLE.
FORCELLI, PETER | SPECIAL AGENT IN CHARGE, MIAMI.
GERIDO, STEVE | SPECIAL AGENT IN CHARGE, NASHVILLE.
NICHOLS, DANA | SPECIAL AGENT IN CHARGE, NEW ORLEANS.
ASHAN, BENEDICT | SPECIAL AGENT IN CHARGE, NEW YORK.
DEVITO, JOHN | SPECIAL AGENT IN CHARGE, NEWARK.
RABADI, ESSAM | SPECIAL AGENT IN CHARGE, PHILADELPHIA.
DURASTANI, JOHN | SPECIAL AGENT IN CHARGE, PHOENIX.
SNYDER, JILL A | SPECIAL AGENT IN CHARGE, SAN FRANCISCO.
PLEASANTS, DAREK | SPECIAL AGENT IN CHARGE, SEATTLE.
MODZELEWSKI, JAMES | SPECIAL AGENT IN CHARGE, ST PAUL.
MCCRARY, DARYL | SPECIAL AGENT IN CHARGE, TAMPA.
BOXLER, MICHAEL B | SPECIAL AGENT IN CHARGE, WASHINGTON, DC.
Bureau of Prisons—BOP
KANE, THOMAS R | DEPUTY DIRECTOR.
JOSLIN, DANIEL M | ASSISTANT DIRECTOR, HUMAN RESOURCES MANAGEMENT DIVISION.
GRIFFITH, L. CRISTINA | SENIOR DEPUTY ASSISTANT DIRECTOR, HUMAN RESOURCES MANAGEMENT DIVISION.
SIMPSON, GARY M | CHIEF EXECUTIVE OFFICER/ASSISTANT DIRECTOR, FEDERAL PRISON INDUSTRIES.
SIBAL, PHILIP J | SENIOR DEPUTY DIRECTOR, REENTRY SERVICES DIVISION.
YEICH, KENNETH | SENIOR DEPUTY ASSISTANT DIRECTOR, INDUSTRIES, EDUCATION AND VOCATIONAL TRAINING DIVISION.
GROSS, BRADLEY T | ASSISTANT DIRECTOR, ADMINISTRATION DIVISION.
BURNS, LONERYL C | SENIOR DEPUTY ASSISTANT DIRECTOR, ADMINISTRATION DIVISION.
SCARANTINO, THOMAS J | SENIOR DEPUTY ASSISTANT DIRECTOR, CORRECTIONAL PROGRAMS DIVISION.
LARA, FRANCISCO | ASSISTANT DIRECTOR, CORRECTIONAL PROGRAMS DIVISION.
AYERS, NANCY | CHIEF, OFFICE OF PUBLIC AFFAIRS.
DUNBAR, ANGELA | REGIONAL DIRECTOR, MIDDLE ATLANTIC REGION.
KIZZIAH, GREGORY | WARDEN, USP, BIG SAND, KY.
GARRETT, JUDITH | ASSISTANT DIRECTOR, INFORMATION, POLICY AND PUBLIC AFFAIRS DIVISION.
HURWITZ, HUGH J | SENIOR DEPUTY ASSISTANT DIRECTOR, INFORMATION, POLICY AND PUBLIC AFFAIRS DIVISION.
THOMPSON, SONYA | SENIOR DEPUTY ASSISTANT DIRECTOR, INFORMATION, POLICY AND PUBLIC AFFAIRS DIVISION.
SCHULT, DEBORAH G | ASSISTANT DIRECTOR, HEALTH SERVICES DIVISION.
HYLE, KENNETH | SENIOR DEPUTY GENERAL COUNSEL, OFFICE OF GENERAL COUNSEL.
KENNEY, KATHLEEN M | ASSISTANT DIRECTOR, OFFICE OF GENERAL COUNSEL.
KENDALL, PAUL F | SENIOR COUNSEL, OFFICE OF GENERAL COUNSEL.
RODGERS, RONALD L | SENIOR COUNSEL, OFFICE OF GENERAL COUNSEL.
WILLS, JAMES C | SENIOR DEPUTY COUNSEL, OFFICE OF GENERAL COUNSEL.
COSBY, JIMMY L | DIRECTOR, NATIONAL INSTITUTE OF CORRECTIONS.
BROWN JR., ROBERT M | SENIOR DEPUTY DIRECTOR, NATIONAL INSTITUTE OF CORRECTIONS.
DUNBAR, ANGELA P | ASSISTANT DIRECTOR, CORRECTIONAL PROGRAMS DIVISION.
FEATHER, MARION M | ASSISTANT DIRECTOR, RE-ENTRY SERVICES DIVISION.
BUTTERFIELD, PATTI | SENIOR DEPUTY ASSISTANT DIRECTOR, RE-ENTRY SERVICES DIVISION.
CARAWAY, JOHN | REGIONAL DIRECTOR, MIDDLE ATLANTIC REGION.
QUINTANA, FRANCISCO J | WARDEN, FMC, LEXINGTON, KY.
BARNHART, JONATHAN | WARDEN FCI, MANCHESTER, KY.
ORMOND, JOHNATHAN R | WARDEN, USP, MCCREARY, KY.
STEWART, TIMOTHY S | WARDEN, FCI, CUMBERLAND, MD.
HOLLAND, JAMES C | COMPLEX WARDEN—FMC, FCC, BUTNER, NC.
MORA, STEVE B | ASSISTANT DIRECTOR, PROGRAM REVIEW DIVISION.
LAYER, PAUL M | SENIOR DEPUTY ASSISTANT DIRECTOR, PROGRAM REVIEW DIVISION.
RASKIN, MINA | SENIOR DEPUTY ASSISTANT DIRECTOR, PROGRAMS REVIEW DIVISION.
FINLEY, SCOTT | SENIOR DEPUTY ASSISTANT DIRECTOR, RE-ENTRY SERVICES DIVISION.
BATTS, MYRON T | WARDEN FCI, MEMPHIS, TN.
WILSON, ERIC D | COMPLEX WARDEN, FCC, PETERSBURG, VA.
SAAD, JENNIFER S | WARDEN, FCI, GILMER, WV.
YOUNG, DAVID L | WARDEN, FCI, BECKLEY, WV.
COAKLEY, JOSEPH D | WARDEN, USP, HAZELTON, WV.
RAVELL, SARA M | REGIONAL DIRECTOR, NORTH CENTRAL REGION.
MOSES, STANCIL | WARDEN, USP, FCC, FLORENCE, CO.
FOX, JACK W | COMPLEX WARDEN—ADX, FCC, FLORENCE, CO.
WERLICH, THOMAS | WARDEN, FCI, GREENVILLE, IL.
KALLIS, STEVEN | WARDEN, FCI, PEKIN, IL.
HUDSON JR., DONALD J | WARDEN, FCI, THOMSON, IL.
KRUEGER, JEFFREY | COMPLEX WARDEN—USP, FCC, TERRE HAUTE, IN.
ENGLISH, NICOLE | WARDEN, USP, LEAVENWORTH, KS.
PAUL, DAVID | WARDEN, FMC, ROCHESTER, MN.
SANDERS, LINDA L | WARDEN USMCFP, SPRINGFIELD, MO.
CARVAJAL, MICHAEL D | REGIONAL DIRECTOR, NORTHEAST REGION.
TATUM, ESKER L | WARDEN, MCC, NEW YORK, NY.
VON BLANCHENSEE, BAR | WARDEN, FCI, OTISVILLE, NY.
YOUNG, SCOTT | WARDEN, FCI, FAIRTON, NJ.
ORTIZ, DAVID | WARDEN, FCI, FORT DIX, NJ.
QUAY, HERMAN | WARDEN, MDC, BROOKLYN, NY.
ODDO, LEONARD | WARDEN, FCC, ALLENWOOD, PA.
BALTAZAR JR., JUAN | WARDEN, USP, CANAAN, PA.
EBBERT, DAVID W | WARDEN USP, LEWISBURG, PA.
ZUNIGA, RAFAEL | WARDEN, FCI, MCKEAN, PA.
PERDUE, RUSSELL A | WARDEN, FCI, SCHUYLKILL, PA.
CARAWAY, JOHN | REGIONAL DIRECTOR, SOUTH CENTRAL REGION.
KELLER, JEFFREY A | REGIONAL DIRECTOR SOUTHEAST REGION.
BEASLEY, GENE | COMPLEX WARDEN, FCC, FOREST CITY, AR.
FOX, JOHN B | WARDEN, FTC, OKLAHOMA CITY, OK.
LARA, FRANCISCO J | COMPLEX WARDEN—USP, FCC, BEAUMONT, TX.
UPTON, JODY R | WARDEN, FMC, CARSWELL, TX.
HANSON, RALPH | WARDEN, FCI, THREE RIVERS, TX.
CHANDLER, RODNEY W | WARDEN, FCI, FORT WORTH, TX.
MARBERRY, HELEN J | REGIONAL DIRECTOR, SOUTHEAST REGION.
ROMERO, BILLY | WARDEN, FCI, TALLADEGA, AL.
JARVIS, TAMYRA | COMPLEX WARDEN—USP2, FCC, COLEMAN, FL.
LOCKETT, CHARLES L | WARDEN—USP, COLEMAN 1, COLEMAN, FL.
BLACKMON, BRUCE E | WARDEN, FCI MARIANNA, FL.
RAMIREZ, GLOVANNI | WARDEN, FDC, MIAMI, FL.
HARMON, DARRIN | WARDEN, USP, ATLANTA, GA.
FLOURNOY JR., JOHN V | WARDEN, FCI, JESUP, GA.
MARTIN, MARK S | COMPLEX WARDEN, FCC, YAZOO CITY, MS.
BRAGG, M. TRAVIS | WARDEN, FCI, BENNETTSVILLE, SC.
MOSLEY, BONITA S | WARDEN, FCI, EDGEFIELD, SC.
ANTONELLI, BRYAN | WARDEN FCI, WILLIAMSBURG, SC.
VAZQUEZ, NORBAL | WARDEN MDC, GUAYNABO, PUERTO RICO.
MITCHELL, MARY M | REGIONAL DIRECTOR, WESTERN REGION.
LOTHROP, WILLIAMS | WARDEN, FCI, PHOENIX, AZ.
SHARTLE, JOHN T | COMPLEX WARDEN—USP, FCC, TUSCON, AZ.
LANGFORD, STEPHEN A | COMPLEX WARDEN FCC, LOMPOC, CA.
MILUSNIC, LOUIS J | WARDEN, MDC. LOS ANGELES, CA.
SHINN, DAVID C | COMPLEX WARDEN, FCC, VICTORVILLE, CA.
MATEVOUSIAN, ANDRE V | WARDEN, USP, ATWATER, CA.
PLUMLEY, BRUCE | WARDEN, FCI, MENDOTA, CA.
IVES, RICHARD B | WARDEN FCI, SHERIDAN, OR.
Civil Division—CIV
READLER, CHAD | PRINCIPAL DEPUTY ASSISTANT ATTORNEY GENERAL.
ANDERSON, DANIEL R | DEPUTY DIRECTOR, COMMERCIAL LITIGATION BRANCH.
MAO, ANDY | DEPTY DIRECTOR, FRAUD SECTION.
FLENTJE, AUGUST | SPECIAL COUNSEL TO THE ASSISTANT ATTORNEY GENERAL.
LANGSAM, STEPANIE | INTERIM ADMINISTRATOR FOR FUNDS, OFFICE OF THE SPECIAL MASTER FOR THE SEPT 11 VICTIM COMPENSATION FUND.
GRIFFITHS, JOHN R | BRANCH DIRECTOR, FEDERAL PROGRAMS.
COPPOLINO, ANTHONY J | DEPUTY BRANCH DIRECTOR.
DAVIDSON, JEANNE E | DIRECTOR, COMMERCIAL LITIGATION BRANCH.
FARGO, JOHN J | DIRECTOR, IP, COMMERCIAL LITIGATION BRANCH.
BENSON, BARRY F | DIRECTOR, AVIATION AND ADMIRALTY SECTION.
BHATTACHARYA, RUPA | SPECIAL MASTER FOR THE SEPTEMBER 11 VICTIM COMPENSATION FUND (DUAL).
REEVES, CATHERINE | DEPTY DIRECTOR, TORTS/CSTL—VACCINE.
GLYNN, JOHN PATRICK | DIRECTOR, ENVIRONMENTAL TORT LITIGATION SECTION.
EMERSON, CATHERINE V | DIRECTOR, OFFICE OF MANAGEMENT PROGRAMS.
PEREZ, LOUIS E | DEPUTY DIRECTOR, (OPS), OFFICE OF IMMIGRATION LITIGATION, DISTRICT COURT.
PEACHEY, WILLIAM C | DIRECTOR, OFFICE OF IMMIGRATION LITIGATION, DISTRICT COURT.
WARD, THOMAS | DEPUTY ASSISTANT ATTORNEY GENERAL—TORTS.
GRANSTON, MICHAEL D | DEPUTY DIRECTOR, COMMERCIAL LITIGATION BRANCH.
MANHARDT, KIRK | DEPUTY DIRECTOR, COMMERCIAL LITIGATION BRANCH, CORPORATE AND FINANCIAL LITIGATION.
DINTZER, KENNETH | DEPUTY DIRECTOR, COMMERCIAL LITIGATION BRANCH, NATIONAL COURTS.
YAVELBERG, JAMIE ANN | DEPUTY DIRECTOR, COMMERCIAL LITIGATION BRANCH, FRAUD SECTION.
HAUSKEN, GARY L | DEPUTY DIRECTOR, INTELLECTUAL PROPERTY/COMMERCIAL LITIGATION BRANCH.
BOLDEN, SCOTT | DEPUTY DIRECTOR, INTELLECTUAL PROPERTY.
HUNT, JOSEPH H | BRANCH DIRECTOR.
DAVIS, ETHAN | DEPUTY DIRECTOR, COMMERCIAL LITIGATION BRANCH.
STEGER, JEFFREY | COUNSEL, CONSUMER PROTECTION BRANCH.
GOLDBERG, RICHARD | COUNSEL, CONSUMER PROTECTION BRANCH.
SHAPIRO, ELIZABETH J | DEPUTY BRANCH DIRECTOR.
COLLETTE, MATTHEW | DEPUTY DIRECTOR, APPELLATE STAFF.
KIRSCHMAN JR., ROBERT E | DIRECTOR, COMMERCIAL LITIGATION BRANCH.
HOCKEY, MARTIN | DEPUTY DIRECTOR, NATIONAL COURTS COMMERCIAL LITIGATION BRANCH.
LETTER, DOUGLAS | DIRECTOR, APPELLATE STAFF.
RAAB, MICHAEL APPELLATE | LITIGATION COUNSEL STERN, MARK B. APPELLATE LITIGATION COUNSEL.
TOUHEY, JR., JAMES G | DIRECTOR, FEDERAL TORT CLAIMS ACT SECTION.
LIEBER, SHEILA M | DEPUTY BRANCH DIRECTOR.
EINERSON, ROGER | SENIOR LEVEL TRIAL ATTORNEY.
BUCKINGHAM, STEPHEN J | SENIOR LEVEL TRIAL ATTORNEY.
MOLINA, JR., ERNESTO | DEPUTY DIRECTOR, OFFICE OF IMMIGRATION LITIGATION, APPELLATE SECTION.
MARTIN, DANA | DEPUTY DIRECTOR, APPELLATE BRANCH.
MCCONNELL, DAVID M. | DIRECTOR, OFFICE OF IMMIGRATIO LITIGATION, APPELLATE SECTION.
MCINTOSH, SCOTT R | SENIOR LEVEL APELLATE COUNSEL.
BROWN, WALTER W | SENIOR PATENT ATTORNEY.
CARNEY, CHRISTOPHER | SENIOR TRIAL ATTORNEY, NAT COURTS/COMMERCIAL LITIGATION BRANCH.
O'MALLEY, BARBARA B | SPECIAL LITIGATION COUNSEL, AVIATION AND ADMIRALTY SECTION.
RICKETTS, JENNIFER D | BRANCH DIRECTOR.
FURMAN, JILL | DEPUTY DIRECTOR, CONSUMER PROTECTION BRANCH.
SCHUMATE, BRETT | DEPUTY ASSISTANT ATTORNEY GENERAL.
KISOR, COLIN | SENIOR TRIAL ATTORNEY, DISTRICT COURT.
FREEMAN, MARK | SENIOR LEVEL TRIAL ATTORNEY, OFFICE OF IMMIGRATION LITIGATION, APPELLATE SECTION.
KEENER, DONALD | SENIOR LEVEL TRIAL ATTORNEY, OFFICE OF IMMIGRATION LITIGATION, APPELLATE SECTION.
D'ALESSIO, JR., C.S | SENIOR LEVEL TRIAL ATTORNEY, CONSTITUTIONAL SECTION.
LINDEMANN, MICHAEL P | SENIOR TRIAL ATTORNEY (NATIONAL SECURITY).
QUINN, MICHAEL J | SENIOR TRIAL ATTORNEY.
GILLIGAN, JAMES J | SPECIAL LITIGATION COUNSEL.
HARVEY, RUTH A | DIRECTOR, COMMERCIAL LITIGATION BRANCH, CORPORATE AND FINANCIAL LITIGATION.
LATOUR, MICHELLE | DEPUTY DIRECTOR, OFFICE OF IMMIGRATION LITIGATION, APPELLATE SECTION.
LIN, JEAN | SENIOR LEVEL TRIAL ATTORNEY, COMPLEX LITIGATION.
Civil Rights Division—CRT
GORE, JOHN | PRINCIPAL DEPUTY ASSISTANT ATTORNEY GENERAL
MOOSSY, ROBERT J | DEPUTY ASSISTANT ATTORNEY GENERAL.
FITZGERALD, PAIGE | PRINCIPAL DEPUTY CHIEF, CRIMINAL SECTION.
KESSLER, TAMARA | CHIEF, CRIMINAL SECTION.
SIMMONS, SHAHEENA | CHIEF, EDUCATIONAL OPPORTUNITIES SECTION.
FRIEL, GREGORY | DEPUTY ASSISTANT ATTORNEY GENERAL.
LEVITT, JUSTIN | DEPUTY ASSISTANT ATTORNEY GENERAL.
HOWE, SUSAN E | EXECUTIVE OFFICER.
TOOMEY, KATHLEEN | DIRECTOR OF OPERATIONAL MANAGEMENT.
GINSBURG, JESSICA A | COUNSEL TO THE ASSISTANT ATTORNEY GENERAL.
KENNEBREW, DELORA | CHIEF, EMPLOYMENT LITIGATION SECTION.
MAJEED, SAMEENA S | CHIEF, HOUSING AND CIVIL ENFORCEMENT SECTION.
SEWARD, JON PRINCIPAL | DEPUTY CHIEF, HOUSING AND CIVIL ENFORCEMENT SECTION.
JANG, DEEANA L | CHIEF, FEDERAL COORDINATION AND COMPLIANCE SECTION.
HERREN JR., THOMAS C | CHIEF, VOTING SECTION.
WERTZ, REBECCA | PRINCIPAL DEPUTY CHIEF, VOTING SECTION.
FLYNN, DIANA KATHERINE | CHIEF, APPELLATE SECTION.
MCGOWAN, SHARON M | PRINCIPAL DEPUTY CHIEF, APPELLATE SECTION.
BOND, REBECCA B | CHIEF, DISABILITY RIGHTS SECTION.
EMBREY, DIANA | CHIEF, EMPLOYMENT COUNSEL.
FORAN, SHEILA | SPECIAL LEGAL COUNSEL, DISABILITY RIGHTS SECTION.
BLOOMBERG, MARK | SPECIAL LEGAL COUNSEL.
RUISANCHEZ, ALBERTO | DEPUTY SPECIAL COUNSEL FOR IMMIGRATION-RELATED UNFAIR EMPLOYMENT PRACTICES.
PRESTON, JUDITH L | PRINCIPAL DEPUTY CHIEF, SPECIAL LITIGATION SECTION.
RAISH, ANNE | PRINCIPAL DEPUTY CHIEF, DISABILITY RIGHTS SECTION.
WOODARD, KAREN | PRINCIPAL DEPUTY CHIEF, EMPLOYMENT LITIGATION SECTION.
ROSENBAUM, STEVEN H | CHIEF, SPECIAL LITIGATION SECTION.
Criminal Division—CRM
BLANCO, KENNETH A | DEPUTY ASSISTANT ATTORNEY GENERAL.
SWARTZ, BRUCE CARLTON | DEPUTY ASSISTANT ATTORNEY GENERAL.
AINSWORTH, PETER J | SENIOR COUNSEL, OFFICE OF OVERSEAS PROSECUTORIAL DEVELOPMENT ASSISTANCE AND TRAINING.
CARROLL, OVIE | DIRECTOR, CYBERCRIME LABORATORY, COMPUTER CRIME AND INTELLECTUAL PROPERTY SECTION.
RYBICKI, DAVID | DEPUTY ASSISTANT ATTORNEY GENERAL.
ALEXANDRE, CARL | COUNSELOR FOR TRANSNATIONAL ORGANIZED CRIME & INTL AFFAIRS.
ARY, VAUGHN | DIRECTOR, OFFICE OF INTERNATIONAL AFFAIRS.
HO-GONZALES, WILLIAM | DEPUTY DIRECTOR, OFFICE OF INTERNATIONAL AFFAIRS.
TOLEDO, RANDY | DEPTY DIRECTOR, OFFICE OF INTERNATIONAL AFFAIRS.
CONNOR, DEBORAH L | DEPUTY CHIEF, ASSET FORFEITURE AND MONEY LAUNDERING SECTION.
HARBIN, HARRY | SENIOR LEGAL COUNSEL FOR ASSET FORFEITURE AND MONEY LAUNDERING.
CARWILE, P. KEVIN | CHIEF, CAPITAL CASE UNIT.
DAY, M. KENDALL | CHIEF, ASSET FORFEITURE AND MONEY LAUNDERING SECTION.
DOWNING, RICHARD W | DEPUTY CHIEF, COMPUTER CRIME AND INTELLECTUAL PROPERTY SECTION.
EHRENSTAMM, FAYE | DIRECTOR, OPDAT.
GOODMAN, NINA | SENIOR COUNSEL FOR APPEALS.
GROCKI, STEVEN J | CHIEF, CHILD EXPLOITATION AND OBSCENITY SECTION.
HODGE, JENNIFER A.H | DEPUTY DIRECTOR, OFFICE OF ENFORCEMENT OPERATIONS.
HULSER, RAYMOND | CHIEF, PUBLIC INTEGRITY SECTION.
JAFFE, DAVID | DEPUTY CHIEF, ORGANIZED CRIME AND GANG SECTION.
JONES, JOSEPH M | SENIOR COUNSEL FOR INTERNATIONAL DEVELOPMENT AND TRAINING.
MCFADDEN, TREVOR | DEPUTY ASSISTANT ATTORNEY GENERAL.
KING, DAMON A | DEPUTY CHIEF, CHILD EXPLOITATION AND OBSCENITY SECTION.
LYNCH JR., JOHN T | CHIEF, COMPUTER CRIME, AND INTELLECTUAL PROPERTY SECTION.
MCHENRY, TERESA L | CHIEF, HUMAN RIGHTS AND SPECIAL PROSECUTIONS SECTION.
MELTON, TRACY | EXECUTIVE OFFICER.
OLMSTED, MICHAEL | SENIOR JUSTICE FOR THE EUROPEAN UNION AND INTERNATIONAL CRIMINAL MATTERS.
PAINTER, CHRISTOPHER M | SENIOR COUNSEL FOR CYBERCRIME.
RAABE, WAYNE C | DEPUTY CHIEF, NARCOTIC AND DANGEROUS DRUG SECTION.
RODRIGUEZ, MARY D | DEPUTY DIRECTOR, OFFICE OF INTERNATIONAL AFFAIRS.
ROSENBAUM, ELI M | DIRECTOR, HUMAN RIGHTS ENFORCEMENT STRATEGY AND POLICY.
STEMLER, PATTY MERKAMP | CHIEF, APPELLATE SECTION.
TIROL, ANNALOU | DEPUTY CHIEF, PUBLIC INTEGRITY SECTION.
WEISSMANN, ANDREW | CHIEF, FRAUD SECTION.
MOSER, SANDRA | DEPUTY CHIEF, FRAUD SETION.
WROBLEWSKI, JONATHAN J | DIRECTOR, OFFICE OF POLICY AND LEGISLATION.
WYATT, ARTHUR G | CHIEF, NARCOTIC AND DANGEROUS DRUG SECTION.
WYDERKO, JOSEPH | DEPUTY CHIEF, APPELLATE SECTION.
Environmental and Natural Resources Division—ENRD
WOOD, JEFF | PRINCIPAL DEPUTY ASSISTANT ATTORNEY GENERAL.
WILLIAMS, JEAN E | DEPUTY ASSISTANT ATTORNEY GENERAL.
GELBER, BRUCE S | DEPUTY ASSISTANT ATTORNEY GENERAL.
ALEXANDER, S. CRAIG | CHIEF, INDIAN RESOURCES SECTION.
BARSKY, SETH | CHIEF, WILDLIFE AND MARINE RESOURCES.
COLLIER, ANDREW | EXECUTIVE OFFICER.
DOUGLAS, NATHANIEL | DEPUTY SECTION CHIEF, ENVIRONMENTAL ENFORCEMENT SECTION.
FERGUSON, CYNTHIA | SENIOR LITIGATOR, ENVIRONMENTAL JUSTICE.
GETTE, JAMES | DEPUTY CHIEF, NATURAL RESOURCES SECTION.
GOLDFRANK, ANDREW M | CHIEF, LAND ACQUISITION SECTION.
GRANT, ERIC | DEPUTY ASSISTANT ATTORNEY GENERAL.
GRISHAW, LETITIA J | CHIEF, ENVIRONMENTAL DEFENSE SECTION.
HARRIS, DEBORAH | CHIEF, ENVIRONMENTAL CRIMES SECTION.
HOANG, ANTHONY P | SENIOR LITIGATION COUNSEL, NATURAL RESOURCES.
KILBOURNE, JAMES C | CHIEF, APPELLATE SECTION.
MAHAN, ELLEN M | DEPUTY CHIEF, ENVIRONMENTAL ENFORCEMENT SECTION.
MARIANI, THOMAS | CHIEF, ENVIRONMENTAL ENFORCEMENT SECTION.
DWORKIN, KAREN | DEPUTY CHIEF, ENVIRONMENTAL ENFORCEMENT SECTION.
MERGEN, ANDREW | DEPUTY CHIEF, APPELLATE SECTION.
PASSARELLI, EDWARD | DEPUTY CHIEF, NATURAL RESOURCES SECTION.
POUX,JOSEPH | DEPUTY CHIEF, ENVIRONMENTAL CRIMES SECTION.
RUSSELL, LISA L | CHIEF, NATURAL RESOURCES SECTION.
HIMMELCHOCH, SARAH | SENIOR ATTORNEY FOR E-DISCOVERY.
BRIGHTBILL, JONATHAN | DEPUTY ASSISTANT ATTORNEY GENERAL.
SHILTON, DAVID | SENIOR LITIGATION COUNSEL.
SINGER, FRANK | SENIOR LITIGATION COUNSEL.
STEWART, HOWARD P | SENIOR LITIGATION COUNSEL.
TENENBAUM, ALAN S | SENIOR LITIGATION COUNSEL.
VADEN, CHRISTOPHER S | DEPUTY CHIEF, ENVIRONMENTAL DEFENSE SECTION.
WARDZINSKI, KAREN M | CHIEF, LAW AND POLICY SECTION.
Executive Office for Immigration Review—EOIR
ADKINS-BLANCH, CHARLES K | VICE CHAIRMAN, BOARD OF IMMIGRATION APPEALS.
CLARK, MOLLY K | ATTORNEY EXAMINER.
COLE, PATRICIA A | ATTORNEY EXAMINER.
CREPPY, MICHAEL | ATTORNEY EXAMINER.
MANN, ANA | ATTORNEY EXAMINER.
GRANT, EDWARD R | ATTORNEY EXAMINER.
GREER, ANNE J | ATTORNEY EXAMINER.
GUENDELSBERGER, JOHN W | ATTORNEY EXAMINER.
JORDAN, WYEVETRA | ASSISTANT DIRECTOR FOR ADMINISTRATION.
LUMHO, KEKOA (DETAIL) | CHIEF INFORMATION OFFICER.
KELLER, MARY BETH | CHIEF IMMIGRATION JUDGE.
KING, JEAN | GENERAL COUNSEL.
LIEBOWITZ, ELLEN | ATTORNEY EXAMINER.
KELLY, EDWARD | ATTORNEY EXAMINER.
MALPHRUS, GARRY D | ATTORNEY EXAMINER.
MCGOINGS, MICHAEL | DEPUTY CHIEF, IMMIGRATION JUDGE.
MULLANE, HUGH G | ATTORNEY EXAMINER.
NEAL, DAVID | CHAIRMAN, BOARD OF IMMIGRATION APPEALS.
O'CONNOR, BLAIR | ATTORNEY EXAMINER.
PAULEY, ROGER ANDREW | ATTORNEY EXAMINER.
STUTMAN, ROBIN M | CHIEF ADMINISTRATIVE HEARING OFFICER.
WENDTLAND, LINDA S | ATTORNEY EXAMINER.
Executive Office for Organized Crime Drug Enforcement Task Forces—OCDETF
OHR, BRUCE G | DIRECTOR, OCDETF AND ASSOCIATE DEPUTY ATTORNEY GENERAL.
PADDEN, THOMAS W | DEPUTY DIRECTOR, OCDETF.
KELLY, THOMAS J | DIRECTOR, FUSION CENTER.
Executive Office for U.S. Attorneys—EOUSA
WILKINSON, ROBERT “MONTY” | DIRECTOR.
BELL, SUZANNE L | DEPUTY DIRECTOR.
PELLETIER, JONATHAN | CHIEF FINANCIAL OFFICER.
FLESHMAN, JAMES MARK | CHIEF INFORMATION OFFICER.
CHANDLER, CAMERON G | ASSOCIATE DIRECTOR, OFFICE OF LEGAL EDUCATION.
FLINN, SHAWN | CHIEF HUMAN RESOURCES OFFICER.
MACKLIN, JAMES | GENERAL COUNSEL.
SMITH, DAVID L | COUNSEL FOR LEGAL INITIATIVES.
VILLEGAS, DANIEL A | COUNSEL, LEGAL PROGAMS AND POLICY.
WONG, NORMAN Y | DEPUTY DIRECTOR AND COUNSEL TO THE DIRECTOR.
Executive Office for U.S. Trustees—EOUST
WHITE III, CLIFFORD J | DIRECTOR.
ELLIOTT, RAMONA D | DEPUTY DIRECTOR, GENERAL COUNSEL.
Justice Management Division—JMD
LOFTHUS, LEE J | ASSISTANT ATTORNEY GENERAL FOR ADMINISTRATION.
SANTANGELO, MARI BARR | DEPUTY ASSISTANT ATTORNEY GENERAL FOR HUMAN RESOURCES AND ADMINISTRATION (CHCO).
LAMARY, MARY | DIRECTOR, HUMAN RESOURCES.
ALLEN, MICHAEL H | DEPUTY ASSISTANT ATTORNEY GENERAL FOR POLICY, MANAGEMENT, AND PLANNING, AND CHIEF OF STAFF.
LAURIA JOLENE A | DEPUTY ASSISTANT ATTORNEY GENERAL/CONTROLLER.
KLIMAVICZ, JOSEPH | DEPUTY ASSISTANT ATTORNEY GENERAL FOR INFORMATION RECOURCES MANAGEMENT AND CHIEF INFORMATION OFFICER.
GARY, ARTHUR | GENERAL COUNSEL.
SHAW, CYNTHIA | DIRECTOR, DEPARTMENTAL ETHICS OFFICE.
SELWESKI, MARK L | DIRECTOR, PROCUREMENT SERVICES STAFF.
ALVAREZ, CHRISTOPHER C | DIRECTOR, FINANCE STAFF.
DEELEY, KEVIN | DEPUTY CHIEF INFORMATION OFFICER.
FRONE, JAMILA | DIRECTOR, OFFICE OF ATTORNEY RECRUITMENT AND MANAGEMENT.
DUNLAP, JAMES L | DIRECTOR, SECURITY AND EMERGENCY PLANNING STAFF.
SNELL, ROBERT | DIRECTOR, FACILITIES AND ADMINISTRATIVE SERVICES STAFF.
FELDT, DENNIS G | DIRECTOR, LIBRARY STAFF.
RAYMOND, JOHN | DIRECTOR, IT POLICY AND PLANNING STAFF.
SELWESKI, MARK L | DIRECTOR, PROCUREMENT SERVICES STAFF.
DAUPHIN, DENNIS E | DIRECTOR, DEBT COLLECTION MANAGEMENT STAFF.
ARNOLD, KENNETH | DIRECTOR, ASSET FORFEITURE MANAGEMENT STAFF.
PULLEN, JEFFREY | SENIOR ADVISOR FOR FINANCIAL MANAGEMENT INFORMATION TECHNOLOGY.
FUNSTON, ROBIN S | DIRECTOR, BUDGET STAFF.
ATTUCKS, MARK | DEPUTY DIRECTOR, BUDGET STAFF, OPERATIONS AND FUNDS CONTROL.
KLEPPINGER, ERIC D | DEPUTY DIRECTOR, BUDGET STAFF, OPERATIONS AND FUNDS CONTROL.
ROGERS, MELINDA | DIRECTOR, CYBERSECURITY SERVICES STAFF.
MACKERT, TODD | DEPUTY STAFF DIRECTOR, CYBER SECURITY SERVICES STAFF.
MCCRAE, DANIEL | DIRECTOR, SERVICE DELIVERY STAFF.
ZIMMER, DAWN | DEPUTY DIRECTOR, SERVICE DELIVERY STAFF.
BEWTRA, ANEET K | CHIEF TECHNOLOGY OFFICER.
RUBIN, DAVID | DIRECTOR, SERVICE ENGINEERING STAFF.
RODGERS, JANICE M | DIRECTOR, DEPARTMENTAL ETHICS OFFICE.
TOSCANO JR., RICHARD A | DIRECTOR, EQUAL EMPLOYMENT OPPORTUNITY STAFF.
MCCONKEY, MILTON ? | SENIOR ADVISOR.
COOK, TERENCE L | SENIOR ADVISOR.
ROPER, MATTHEW | DEPUTY DIRECTOR (AUDITING), FINANCE STAFF.
National Security Division—NSD
ATKINSON, MICHAEL | SENIOR COUNSEL TO THE AAG.
HICKEY, ADAM | DEPUTY ASSISTANT ATTORNEY GENERAL.
WIEGMANN, JOHN B | DEPUTY ASSISTANT ATTORNEY GENERAL, OFFICE OF LAW AND POLICY.
TOSCAS, GEORGE Z | DEPUTY ASSISTANT ATTORNEY GENERAL (COUNTERESPIONAGE-COUNTERTERRORISM).
JAYARAM, SANCHITHA | CHIEF, FOREIGN INVESTMENT REVIEW STAFF.
DUNNE, STEVEN M | CHIEF, APPELLATE UNIT.
EVANS, STUART | DEPUTY ASSISTANT ATTORNEY GENERAL, FISA OPERATINS AND INTELLIGENCE OVERSIGHT.
JENKINS, MARK A | EXECUTIVE OFFICER.
WEINSHEIMER, G. BRADLEY | DIRECTOR OF RISK MANAGEMENT AND COUNSELOR.
KEEGAN, MICHAEL | DEPUTY CHIEF, COUNTERTERRORISM SECTION.
KENNEDY, J. LIONEL | SPECIAL COUNSEL FOR NATIONAL SECURITY.
MULLANEY, MICHAEL J | CHIEF, COUNTERTERRORISM SECTION.
O'CONNOR, KEVIN | CHIEF, OVERSIGHT SECTION.
SANZ-REXACH, GABRIEL | CHIEF, OPERATIONS SECTION.
HARDEE, CHRISTOPHER | CHIEF, POLICY—OFFICE OF LAW AND POLICY.
LAUFMAN, DAVID | CHIEF, COUNTERINTELLIGENCE, EXPORT CONTROL AND ECONOMIC ESPIONAGE.
Office of Community Oriented Policing Services—COPS
WASHINGTON, RUSSELL C | PRINCIPAL DEPUTY DIRECTOR.
BROWN-CUTLAR, SHANETTA | SENIOR ADVISOR TO THE DIRECTOR.
Office of Information Policy—OIP
PUSTAY, MELANIE ANN | DIRECTOR.
Office of the Inspector General—OIG
STORCH, ROBERT | DEPUTY INSPECTOR GENERAL.
MALMSTROM, JASON R | ASSISTANT INSPECTOR GENERAL FOR AUDIT.
BLIER, WILLIAM M | GENERAL COUNSEL.
LEE, RENE | SENIOR COUNSEL TO THE INSPECTOR GENERAL.
BECKHARD, DANIEL C | ASSISTANT INSPECTOR GENERAL FOR OVERSIGHT AND REVIEW.
O'NEILL, MICHAEL SEAN | DEPUTY ASSISTANT INSPECTOR GENERAL FOR OVERSIGHT AND REVIEW.
PELLETIER, NINA S | ASSISTANT INSPECTOR GENERAL FOR EVALUATION AND INSPECTIONS.
HAYES, MARK L | DEPUTY ASSISTANT INSPECTOR GENERAL FOR AUDIT.
JOHNSON, ERIC A | ASSISTANT INSPECTOR GENERAL INVESTIGATIONS.
CHAWAGA, MARGARET | DEPUTY ASSISTANT INSPECTOR GENERAL FOR INVESTIGATIONS.
PETERS, GREGORY T | ASSISTANT INSPECTOR GENERAL FOR MANAGEMENT AND PLANNING.
LOWELL, CYNTHIA | DEPUTY ASSISTANT INSPECTOR GENERAL FOR MANAGEMENT AND PLANNING.
MITZELFELD, JAMES A | SENIOR COUNSEL TO THE AIG/INV.
RATON, MITCH | CHIEF INNOVATION OFFICER.
SUMNER, PATRICIA | SENIOR COUNSEL TO THE ASSISTANT INSPECTOR GENERAL FOR OVERSIGHT AND REVIEW.
LAVINSKY, JOHN | SENIOR COUNSEL TO THE IG.
Office of Justice Programs—OJP
HANSON, ALAN | PRINCIPAL DEPUTY ASSISTANT ATTORNEY GENERAL.
HENNEBERG, MAUREEN A | DEPUTY ASSISTANT ATTORNEY GENERAL OPERATIONS MANAGEMENT.
GARRY, EILEEN M | DEPUTY DIRECTOR FOR PLANNING, BUREAU OF JUSTICE ASSISTANCE.
TRAUTMAN, TRACEY | DEPUTY DIRECTOR FOR PROGRAMS, BUREAU OF JUSTICE ASSISTANCE.
FEUCHT, THOMAS E | EXECUTIVE SCIENCE ADVISOR, NATIONAL INSTITUTE OF JUSTICE.
SPIVAK, HOWARD | PRINCIPAL DEPUTY DIRECTOR, NATIONAL INSTITUTE OF JUSTICE.
MARTIN, RALPH | DIRECTOR, OFFICE OF AUDIT, ASSESSMENT, AND MANAGEMENT.
MERKLE, PHILIP | DIRECTOR, OFFICE OF ADMINISTRATION.
MADAN, RAFAEL A | GENERAL COUNSEL.
MAHONEY, KRISTEN | DEPUTY DIRECTOR, POLICY MANAGEMENT, BUREAU OF JUSTICE ASSISTANCE.
ROBERTS, MARILYN M | DEPUTY DIRECTOR, OFFICE FOR VICTIMS OF CRIME.
MULROW, JERI | DIRECTOR, BUREAU OF JUSTICE STATISTICS.
SOLOMON, AMY | DIRECTOR FOR POLICY
MCGRATH, BRIAN | CHIEF INFORMATION OFFICER.
BENDA, BONNIE LEIGH | CHIEF FINANCIAL OFFICER.
ATSATT, MARILYNN B | DEPUTY CHIEF FINANCIAL OFFICER.
THOMAS, LATHIKA (MARY) | DIRECTOR FOR POLICY.
BECK, ALLEN J | SENIOR STATISTICIAN.
DARDEN, SILAS | DIRECTOR, OFFICE OF COMMUNICATIONS.
JONES, CHYRL | DEPUTY ADMINISTRATOR FOR PROGRAMS, OJJDP.
Office of Legal Counsel—OLC
GANNON, CURTIS | PRINCIPAL DEPUTY ASSISTANT ATTORNEY GENERAL OF LEGAL COUNSEL.
KOFFSKY, DANIEL L | DEPUTY ASSISTANT ATTORNEY GENERAL.
WHITAKER, HENRY | DEPUTY ASSISTANT ATTORNEY GENERAL.
HARRIS, SARAH | DEPUTY ASSISTANT ATTORNEY GENERAL.
COLBORN, PAUL P | SPECIAL COUNSEL.
HART, ROSEMARY A | SPECIAL COUNSEL.
SINGDAHLSEN, JEFFREY P | SENIOR COUNSEL.
STEWART, SCOTT | COUNSEL.
Office of Legal Policy—OLP
NEWMAN, RYAN | PRINCIPAL DEPUTY ASSISTANT ATTORNEY GENERAL.
TALLEY, BRETT | DEPUTY ASSISTANT ATTORNEY GENERAL.
JONES, KEVIN ROBERT | DEPUTY ASSISTANT ATTORNEY GENERAL.
THIEMANN, ROBYN L | DEPUTY ASSISTANT ATTORNEY GENERAL.
ESCALONA, PRIM | DEPUTY ASSISTANT ATTORNEY GENERAL.
KARP, DAVID J | SENIOR COUNSEL.
JACOBS, JOANNA | SENIOR COUNSEL FOR ALTERNATIVE DISPUTE RESOLUTION.
Office of Legislative Affairs—OLA
RAMER, SAMUEL | PRINCIPAL DEPUTY ASSISTANT ATTORNEY GENERAL.
LASSETER, DAVID | DEPUTY ASSISTANT ATTORNEY GENERAL.
Office of Professional Responsibility—OPR
ASHTON, ROBIN | COUNSEL FOR PROFESSIONAL RESPONSIBILITY.
RAGSDALE, JEFFREY | DEPUTY COUNSEL ON PROFESSIONAL RESPONSIBILITY.
BIRNEY, WILLIAM | SENIOR ASSOCIATE COUNSEL.
HURLEY, RAYMOND | SENIOR ASSOCIATE COUNSEL.
Office of Public Affairs—PAO
ISGUR FLORES, SARAH | DIRECTOR.
Office of Tribal Justice—OTJ
TOULOU, TRACY S | DIRECTOR, OFFICE OF TRIBAL JUSTICE.
EDERHEIMER, JOSHUA | SENIOR ADVISOR.
Professional Responsibility Advisory Office—PRAO
LUDWIG, STACY | DIRECTOR.
Tax Division—TAX
HUBBERT, DAVID A | DEPUTY ASSISTANT ATTORNEY GENERAL.
BRUFFY, ROBERT | EXECUTIVE OFFICER.
BALLWEG, MITCHELL | COUNSELOR TO THE DEPUTY ASSISTANT ATTORNEY GENERAL FOR STRATEGIC TAX ENFORCEMENT.
WSZALEK, LARRY | CHIEF, CRIMINAL ENFORCEMENT SECTION, WESTERN REGION.
DALY, MARK | SENIOR TRIAL ATTORNEY.
DAVIS, NANETTE | SENIOR TRIAL ATTORNEY.
DONOHUE, DENNIS M | SENIOR LITIGATION COUNSEL.
PINCUS, DAVID | CHIEF, COURT OF FEDERAL CLAIMS SECTION.
GOLDBERG, STUART | SENIOR COUNSELOR TO THE ASSISTANT ATTORNEY GENERAL.
HAGLEY, JUDITH | SENIOR TRIAL ATTORNEY.
HARTT III, GROVER | CHIEF, CIVIL TRIAL SECTION SOUTHWESTERN REGION.
IHLO, JENNIFER | SENIOR TRIAL ATTORNEY.
CLARKE, RUSSELL SCOTT | CHIEF, CIVIL TRIAL SECTION, CENTRAL REGION.
JOHNSON, CORY | SENIOR TRIAL ATTORNEY.
KEARNS, MICHAEL J | CHIEF, CIVIL TRIAL SECTION, SOUTHERN REGION.
LARSON, KARI | SENIOR TRIAL ATTORNEY.
LINDQUIST III, JOHN A | SENIOR TRIAL ATTORNEY.
MELAND, DEBORAH | CHIEF, CIVIL TRIAL SECTION EASTERN REGION.
REID, ANN C | CHIEF, OFFICE OF REVIEW.
MULLARKEY, DANIEL P | CHIEF, CIVIL TRIAL SECTION, NORTHERN REGION.
PAGUNI, ROSEMARY E | CHIEF, CRIMINAL ENFORCEMENT SECTION, NORTHERN REGION.
ROTHENBERG, GILBERT S | CHIEF, APPELLATE SECTION.
CLARK, THOMAS J | DEPUTY CHIEF, APPELLATE SECTION.
SALAD, BRUCE M | CHIEF, CRIMINAL ENFORCEMENT SECTION, SOUTHERN REGION.
LYONS, ROBERT | CHIEF, CRIMINAL APPEALS AND TAX ENFORCEMENT POLICY SECTION.
SAWYER, THOMAS | SENIOR TRIAL ATTORNEY.
SERGI, JOSEPH A | SENIOR TRIAL ATTORNEY.
SHATZ, EILEEN M | SPECIAL LITIGATION COUNSEL.
SMITH, COREY J | SENIOR TRIAL ATTORNEY.
STEHLIK, NOREENE C | SENIOR TRIAL ATTORNEY.
SULLIVAN, JOHN | SENIOR TRIAL ATTORNEY.
WEAVER, JAMES E | SENIOR TRIAL ATTORNEY.
WARD, RICHARD | CHIEF, CIVIL TRIAL SECTION WESTERN REGION.
U.S. Marshals Service—USMS
HARLOW, DAVID | DEPUTY DIRECTOR.
AUERBACH, GERALD | GENERAL COUNSEL.
BROWN, SHANNON B | ASSISTANT DIRECTOR, JPATS.
MOHAN, KATHERINE T | ASSISTANT DIRECTOR, HUMAN RESOURCES.
DRISCOLL, DERRICK | ASSISTANT DIRECTOR, INVESTIGATIVE OPERATIONS.
MATHIAS, KARL | ASSISTANT DIRECTOR FOR INFORMATION TECHNOLOGY.
BOLEN, JOHN | ASSISTANT DIRECTOR, JUDICIAL SECURITY.
EDWARDS, SOPHIA | DIRECTOR, BUSINESS STRATEGY AND NTEGRATION.
MUSEL, DAVID F | ASSOCIATE DIRECTOR, ADMINISTRATION.
SNELSON, WILLIAM D | ASSOCIATE DIRECTOR, OPERATIONS.
VIRTUE, TIMOTHY | ASSISTANT DIRECTOR, ASSET FORFEITURE.
HACKMASTER, NELSON | ASSISTANT DIRECTOR, PRISONER OPERATIONS.
DICKINSON. LISA | ATTORNEY ADVISOR.
O'BRIEN-ROGAN, CAROLE | PROCUREMENT EXECUTIVE, FINANCIAL SERVICES.
O'BRIEN, HOLLEY | CHIEF, FINANCIAL OFFICER, FINANCIAL SERVICES.
O”HEARN, DONALD | ASSISTANT DIRECTOR, OFFICE OF PROFESSIONAL RESPONSIBILITY.
PAN, MAUREEN | (ACTING) ASSISTANT DIRECTOR, MANAGEMENT SUPPORT.
ANDERSON, DAVID | ASSISTANT DIRECTOR, TRAINING.
Community Relations Service—CRS
RATIFF, GERRI | DEPUTY DIRECTOR.
Rule of Law Office—ROL
FAIRCHILD, FORDE | JUSTICE ATTACHE, AFGHANISTAN.
U.S. National Central Bureau INTERPOL—USNCB
SALZGABER, WAYNE | DEPUTY DIRECTOR.

[FR Doc. 2017-22444 Filed 10-16-17; 8:45 am]

BILLING CODE 4410-CH-P